NUCLEAR REGULATORY COMMISSION

Governors' Designees Receiving Advance Notification of Transportation of Nuclear Waste

On January 6, 1982 (47 FR 596 and 47 FR 600), the U.S. Nuclear Regulatory Commission (NRC) published in the Federal Register final amendments to 10 CFR parts 71 and 73 (effective July 6, 1982), that require advance notification to Governors or their designees by NRC licensees prior to transportation of certain shipments of nuclear waste and spent fuel. The advance notification covered in part 73 is for spent nuclear reactor fuel shipments and the notification for part 71 is for large quantity shipments of radioactive waste (and of spent nuclear reactor fuel not covered under the final amendment to 10 CFR part 73).

The following list updates the names, addresses, and telephone numbers of those individuals in each State who are responsible for receiving information on nuclear waste shipments. The list will be published annually in the Federal Register on or about June 30 to reflect any changes in information.

Questions regarding this matter should be directed to Rosetta O. Virgilio, Office of State and Tribal Programs, U.S. Nuclear Regulatory Commission, Washington, DC 20555, (Internet Address: rov@nrc.gov) or at 301-415-2367.

Dated at Rockville, Maryland this 1st day of June 2005.
For the U.S. Nuclear Regulatory Commission.
Paul H. Lohaus,
Director, Office of State and Tribal Programs.

INDIVIDUALS RECEIVING ADVANCE NOTIFICATIOIN OF NUCLEAR WASTE SHIPTMENTS
State | Part 71 | Part 73
Alabama | Colonel W. M. Coppage, Director, Alabama Department of Public Safety, 301 South Ripley Street, P.O. Box 1511, Montgomery, AL 36104, (334) 242-4394, 24 hours: (334) 242-4128 | Same
Alaska | Kim Stricklan, P.E., Solid Waste Program Manager, Alaska Department of Environmental, Conservation, 555 Cordova Street, Anchorage, AK 99501, (907) 269-1099, 24 hours: (907) 457-1421 | Same
Arizona | Aubrey V. Godwin, Director, Arizona Radiation Regulatory Agency, 4814 South 40th Street, Phoenix, AZ 85040, (602) 255-4845, ext. 222, 24 hours: (602) 223-2212 | Same
Arkansas | Bernard Bevill, Division of Radiation Control and Emergency Management, Arkansas Department of Health, 4815 West Markham Street, Mail Slot #30. Little Rock, AR 72205-3867, (501) 661-2301, 24 hours: (501) 661-2136 | Same
California | Captain Andrew R. Jones, California Highway Patrol, Enforcement Services Division, 444 North 3rd St., Suite 310, P.O. Box 942898, Sacramento, CA 94298-0001, (916) 445-1865, 24 hours: 1-(916) 845-8931 | Same
Colorado | Captain Allan Turner, Hazardous Materials Transport Safety & Response, Colorado State Patrol, 700 Kipling Street, Suite 1000, Denver, CO 80215-5865, (303) 239-4546, 24 hours: (303) 419-8577 | Same
Connecticut | Edward L. Wilds, Jr., Ph.D., Director, Division of Radiation, Department of Environmental Protection, 79 Elm Street, Hartford, CT 06106-5127, (860) 424-3029, 24 hours: (860) 424-3333 | Same
Delaware | David B. Mitchell, J.D., Secretary, Department of Safety & Homeland Security, P.O. Box 818, Dover, DE 19903, (302) 744-2665, 24 hours: Cell (302) 222-6590 | Same
Florida | Harlan W. Keaton, Administrator, Bureau of Radiation Control, Environmental Radiation Program, Department of Health, P.O. Box 680069, Orlando, FL 32868-0069, (407) 297-2095 | Same
Georgia | Captain Bruce Bugg, Special Projects Coordinator, Law Enforcement Division, Georgia Department of Motor Vehicle Safety, P.O. Box 80447, 2206 East View Parkway, Conyers, GA 30013, (678) 413-8834, 24 hours: (404) 655-7484 | Same
Hawaii | Laurence Lau, Deputy Director for Environmental Health, State of Hawaii Department of Health, P.O. Box 3378, 1250 Punchbowl Street, Honolulu, HI 96813, (808) 586-4424, 24 hours: (808) 247-2191 | Same
Idaho | Lieutenant William L. Reese, Deputy Commander, Commercial Vehicle Safety, Idaho State Police, P.O. Box 700, Meridian, ID 83680-0700, (208) 884-7222, 24 hours: (208) 846-7500 | Same
Illinois | Gary N. Wright, Assistant Director, Illinois Emergency Management Agency, 1035 Outer Park Drive, 5th Floor, Springfield, IL 62704, (217) 785-9868, 24 hours: (217) 782-7860 | Same
Indiana | Superintendent Paul Whitesell, Ph.D., Director, Indiana State Police, Indiana Government Center North, 100 North Senate Avenue, Indianapolis, IN 46204, 24 hours: (317) 232-8248 | Same
Iowa | David Miller, Administrator, Homeland Security Advisor, Iowa Emergency Management Division, Hoover State Office Building, Level A, 1305 East Walnut Street, Des Moines, IA 50319, 24 hours: (515) 281-3231 | Same
Kansas | Frank H. Moussa, M.S.A., Technological Hazards Administrator, Department of the Adjutant General, Division of Emergency Management, 2800 SW Topeka Boulevard, Topeka, KS 66611-1287, (785) 274-1408, 24 hours: (785) 296-8013 | Same
Kentucky | Robert L. Johnson, Manager, Radiation Health Branch, Cabinet for Health and Family Services, 275 East Main Street, Mail Stop HS-1C-A, Frankfort, KY 40621-0001, (502) 564-7818, ext. 3697, 24 hours: (502) 667-1637 | Same
Louisiana | Captain Robert Pinero, Louisiana State Police, 7919 Independence Boulevard, P.O. Box 66614 (#A2621), Baton Rouge, LA 70896-6614, (225) 925-6113, ext. 270, 24 hours: (877) 925-6595 | Same
Maine | Colonel Craig Poulin, Chief of the State Police, Maine Department of Public Safety, 42 State House Station, Augusta, ME 04333, (207) 624-7000 | Same
Maryland | Michael Bennett, Director, Electronic Systems Division, Maryland State Police, 1201 Reisterstown Road, Pikesville, MD 21208, (410) 653-4229, 24 hours: (410) 653-4200 | Same
Massachusetts | Robert J. Walker, Director, Radiation Control Program, Massachusetts Department of Public Health, 90 Washington Street, Dorchester, MA 02121, (617) 427-2944 ext. 2001, 24 hours: (617) 427-2913 | Same
Michigan | Captain Dan Atkinson, Commander, Field Operations Division, Michigan State Police, 714 South Harrison Road, East Lansing, MI 48823, (517) 336-6136, 24 hours: (517) 336-6100 | Same
Minnesota | John Kerr, Assistant Director, Administration and Recovery Branch, Minnesota Division of Homeland Security & Emergency Management, 444 Cedar Street, Suite 223, St. Paul, MN 55101-6223, (651) 296-0481, 24 hours: (651) 649-5451 | Same
Mississippi | Robert R. Latham, Jr., Emergency Management Agency, P.O. Box 4501, Fondren Station, Jackson, MS 39296-4501, (601) 960-9020, 24 hours: (601) 352-9100 | Same
Missouri | Ronald M. Reynolds, Director, Emergency Management Agency, P.O. Box 116, Jefferson City, MO 65102-0016, (573) 526-9101, 24 hours: (573) 751-2748 | Same
Montana | Dan McGowan, Administrator, Montana Disaster & Emergency Services Division, P.O. Box 4789, Helena, MT 59604-4789, 24 hours: (406) 841-3911 | Same
Nebraska | Major Bryan J. Tuma, Nebraska State Patrol, P.O. Box 94907, Lincoln, NE 68509-4907, (402) 479-4950, 24 hours: (402) 471-4545 | Same
Nevada | Stanley R. Marshall, Chief, Bureau of Health Protection Services, Nevada State Health Division, 1179 Fairview Drive, Suite 201, Carson City, NV 89701-5405, (775) 687-5394, ext. 276, 24 hours: (775) 688-2830 | Same
New Hampshire | Lieutenant Stephen A. Kace, Highway Patrol and Enforcement Bureau, New Hampshire Department of Safety, James H. Hayes Building, 33 Hazen Drive, Concord, NH 03305, (603) 271-2091, 24 hours: (603) 271-3636 | Same
New Jersey | Kent Tosch, Chief, Bureau of Nuclear Engineering, Department of Environmental Protection, P.O. Box 415, Trenton, NJ 08625-0415, (609) 984-7700, 24 hours: (609) 658-3072 | Same
New Mexico | Don Shainin, Hazards Materials Coordinator, New Mexico Department of Public Safety, Office of Emergency Management, P. O. Box 1628, Santa Fe, NM 87504-1628, (505) 476-9681, 24 hours: (505) 476-9635 | Same
New York | James W. Tuffey, Executive Deputy Director, New York State Emergency Management Office, 1220 Washington Avenue, Building 22—Suite 101, Albany, NY 12226-2251, (518) 457-2222, 24 hours: (518) 457-2200 | Same
North Carolina | Lieutenant Mark Dalton, Special Operations Section, North Carolina Highway Patrol, 1142 SE Maynard, Cary, NC 27511, (919) 319-1523, 24 hours: (919) 733-3861 | Same
North Dakota | Terry L. O'Clair, Director, Division of Air Quality, North Dakota Department of Health, 1200 Missouri Avenue, P.O. Box 5520, Bismarck, ND 58506-5520, (701) 328-5188, 24 hours: (701) 328-9921 | Same
Ohio | Carol A. O'Claire, Chief, Radiological Branch, Ohio Emergency Management Agency, 2855 West Dublin Granville Road, Columbus, OH 43235-2206, (614) 799-3915, 24 hours: (614) 889-7150 | Same
Oklahoma | Commissioner Kevin L. Ward, Oklahoma Department of Public Safety, P.O. Box 11415, Oklahoma City, OK 73136-0145, (405) 425-2001, 24 hours: (405) 425-2323 | Same
Oregon | Ken Niles, Assistant Director, Oregon Department of Energy, 625 Marion Street, NE, Salem, OR 97301-3742, (503) 378-4906, 24 hours: (503) 378-6377 | Same
Pennsylvania | John Bahnweg, Director of Operations and Training, Pennsylvania Emergency Management Agency, 2605 Interstate Drive, Harrisburg, PA 17110-3321, (717) 651-2001 | Same
Rhode Island | Terrence Mercer, Associate Administrator, Motor Carriers Section, Division of Public Utilities and Carriers, 89 Jefferson Boulevard, Warwick, RI 02888, (401) 941-4500, Ext. 150, 24 hours: (401) 465-2170 | Same
South Carolina | Henry J. Porter, Assistant Director, Division of Waste Management, Bureau of Land and Waste Management, Department of Health & Environmental Control, 2600 Bull Street, Columbia, SC 29201, (803) 896-4245, 24 hours: (803) 253-6488 | Same
South Dakota | Kristi Turman, Director of Operations, Emergency Management Agency, 118 W. Capitol Avenue, Pierre, SD 57501-5070, (605) 773-3231 | Same
Tennessee | Elgan Usrey, Manager, Technical Division, Tennessee Emergency Management Agency, 3041 Sidco Drive, Nashville, TN 37204-1502, (615) 741-2879. After hours: (Inside TN) 1-800-262-3400, (Outside TN) 1-800-258-3300 | Same
Texas | Richard A. Ratliff, P.E., L.M.P., Radiation Program Officer, Division of Regulatory Services, Texas Department of State Health Services, 1100 West 49th Street, Mail Code 2827, Austin, TX 78756-3189, (512) 834-6679, 24 hours: (512) 458-7460 | Colonel Thomas A. Davis, Director, Texas Department of Public Safety, Attn: EMS Preparedness Section, P.O. Box 4087, Austin, TX 78773-0223, (512) 424-7771, 24 hours: (512) 424-2208
Utah | Dane Finerfrock, Director, Division of Radiation Control, Department of Environmental Quality, 168 North 1950 West, P.O. Box 144850, Salt Lake City, UT 84114-4850, (801) 536-4257, After hours: (801) 536-4123 | Same
Vermont | Commissioner Kerry L. Sleeper, Department of Public Safety, 103 South Main Street, Waterbury, VT 05671-2101, (802) 244-8718, 24 hours: (802) 244-8727 | Same
Virginia | Brett A. Burdick, Director, Technological Hazards Division, Department of Emergency Management, Commonwealth of Virginia, 10501 Trade Court, Richmond, VA 23236, (804) 897-6500, ext. 6569, 24 hours: (804) 674-2400 | Same
Washington | Steven L. Kalmbach, Assistant State Fire Marshal, Washington State Patrol Fire Protection Bureau, P.O. Box 42600, Olympia, WA 98504-2600, (360) 570-3119, 24 hours: 1-800-409-4755 | Same
West Virginia | Colonel H. E. Hill, Jr., Superintendent, West Virginia State Police, 725 Jefferson Road, South Charleston, WV 25309, (304) 746-2111 | Same
Wisconsin | Johnnie L. Smith, Administrator, Wisconsin Emergency Management, P.O. Box 7865, Madison, WI 53707-7865, 608-242-3210, 24 hour: (608) 242-3232 | Same
Wyoming | Captain Vernon Poage, Support Services Officer, Commercial Carriers, Wyoming Highway Patrol, 5300 Bishop Boulevard, Cheyenne, WY 82009-3340, (307) 777-4317, 24 hours: (307) 777-4321 | Same
District of Columbia | Gregory B. Talley, Program Manager, Radiation Protection Division, Bureau of Food, Drug & Radiation Protection, Department of Health, 51 N Street, NE, Room 6025, Washington, DC 20002, (202) 535-2320, 24 hours: (202) 535-2180 | Same
Puerto Rico | Esteban Mujica, Chairman, Environmental Quality Board, P.O. Box 11488, San Juan, PR 00910, (787) 767-8056 or (787) 767-8181 | Same
Guam | Fred M. Castro, Administrator, Guam Environmental Protection Agency, P.O. Box 22439 GMF, Barrigada, Guam 96921, (671) 457-1658 or 1659, 24 hours: (671) 635-9500 | Same
Virgin Islands | Dean C. Plaskett, Esq., Commissioner, Department of Planning and Natural, Resources, Cyril E. King Airport, Terminal Building—Second Floor, St. Thomas, Virgin Islands 00802, (340) 774-3320, 24 hours: (340) 774-5138 | Same
American Samoa | Peter Peshut, Manager, Technical Services, American Samoa Environmental Protection Agency, P.O. Box PPA, Pago Pago, American Samoa 96799, (684) 633-2304, 24 hours: (684) 622-7106 | Same
Commonwealth of the Northern Mariana Islands | John Castro, Director, Department of Environmental Quality, Commonwealth of Northern, Mariana Islands Government, P. O. Box 501304, Saipan, MP 96950, (670) 664-8500 or 8501, 24 hours: (670) 287-1526 | Same

[FR Doc. 05-12903 Filed 6-29-05; 8:45 am]

BILLING CODE 7590-01-P